DEPARTMENT OF HEALTH AND HUMAN SERVICES

Agency for Toxic Substances and Disease Registry

Community/Tribal Subcommittee and the Board of Scientific Counselors, Agency for Toxic Substances and Disease Registry: Meetings

In accordance with section 10(a)(2) of the Federal Advisory Committee Act (Pub. L. 92-463), the Agency for Toxic Substances and Disease Registry (ATSDR) announces the following subcommittee and committee meetings.

Name: Community/Tribal Subcommittee(CTS).

Times and Dates: 8:30 a.m.-4 p.m., May 2, 2000; 8:30 a.m.-3 p.m., May 3, 2000.

Place: Holiday Inn Select, 130 Clairmont Avenue, Decatur, Georgia 30030.

Status: Open to the public, limited by the available space.

The meeting room accommodates approximately 60 people.

Purpose: This subcommittee will bring to the Board advice, citizen input, and recommendations on community and tribal programs, practices, and policies of the Agency.

Matters To Be Discussed: Agenda items include an update on Action Items from previous meetings; discussion of criteria for CTS and Special Consultants' participation in non-ATSDR activities; CTS Special Consultant will update on attendance to Environmental Protection Agency's National Environmental Justice Advisory Committee Meeting; discussion on Federal Facilities activities with DOD and DOE Liaisons; update on ATSDR Five-Year Research Agenda; CTS update on cultural sensitivity training; and, an update on the Office of Tribal Affairs activities.

Name: Board of Scientific Counselors, ATSDR.

Times and Dates: 8:30 a.m.-5 p.m., May 4, 2000. 8:30 a.m.-1 p.m., May 5, 2000.

Place: Holiday Inn Select, 130 Clairmont Avenue, Decatur, Georgia 30030.

Status: Open to the public, limited by the available space.

The meeting room accommodates approximately 60 people.

Purpose: The Board of Scientific Counselors, ATSDR, advises the Secretary; the Assistant Secretary for Health; and the Administrator, ATSDR, on ATSDR programs to ensure scientific quality, timeliness, utility, and dissemination of results. Specifically, the Board advises on the adequacy of science in ATSDR-supported research, emerging problems that require scientific investigations, accuracy and currency of the science in ATSDR reports, and program areas to emphasize or de-emphasize. In addition, the Board recommends research programs and conference support for which the Agency awards grants to universities, colleges, research institutions, hospitals, and other public and private organizations.

Matters To Be Discussed: Agenda items will include an update on the development of the ATSDR Research Agenda; discussion on issues of implementation, integration of programs, and funding mechanisms for research agendas by CDC, EPA, and NIOSH; discussion of collection and storage of biological materials; discussion of voluntary research, the Great Lakes research program, and the AMPHS program; an overview of cultural sensitivity training on American Indian issues; an update by the Community and Tribal Subcommittee; and discussion of activities related to Libby, Montana.

Written comments are welcomed and should be received by the contact person listed below prior to the opening of the meeting.

Agenda items are subject to change as priorities dictate.

Contact Person for More Information: Robert Spengler, Sc.D., Executive Secretary, BSC, ATSDR, M/S E-28, 1600 Clifton Road, NE, Atlanta, Georgia 30333, telephone 404/639-0708.

The Director, Management Analysis and Services Office, has been delegated the authority to sign Federal Register Notices pertaining to announcements of meetings and other committee management activities, for both the Centers for Disease Control and Prevention and the Agency for Toxic Substances and Disease Registry.

Dated: April 5, 2000.
Carolyn J. Russell,
Director, Management Analysis and Services Office, Centers for Disease Control and Prevention (CDC).

[FR Doc. 00-9188 Filed 4-12-00; 8:45 am]

BILLING CODE 4163-70-P